DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

On April 19, 2023, OFAC determined that the property and interests in property subject to U.S. jurisdiction of the following persons are blocked under the relevant sanctions authority listed below.

Individual

1. ROTHSCHUH ANDINO, Octavio Ernesto, Nicaragua; DOB 02 Dec 1967; POB Nicaragua; nationality Nicaragua; Gender Male; Cedula No. 1210212670001Y (Nicaragua) (individual) [NICARAGUA].

Designated pursuant to section 1(a)(iii) of Executive Order 13851 of November 27, 2018, “Blocking Property of Certain Persons Contributing to the Situation in Nicaragua” (E.O. 13851), as amended by Executive Order 14088 of October 24, 2022, “Taking Additional Steps To Address the National Emergency With Respect to the Situation in Nicaragua” (E.O. 13851, as amended), for being an official of the Government of Nicaragua or having served as an official of the Government of Nicaragua at any time on or after January 10, 2007.

2. TARDENCILLA RODRIGUEZ, Nadia Camila, Nicaragua; DOB 16 Jul 1983; POB Nicaragua; nationality Nicaragua; Gender Female; Cedula No. 0011607830002Y (Nicaragua) (individual) [NICARAGUA].

Designated pursuant to section 1(a)(iii) of E.O. 13851, as amended, for being an official of the Government of Nicaragua or having served as an official of the Government of Nicaragua at any time on or after January 10, 2007.

3. RODRIGUEZ MEJIA, Ernesto Leonel, Nicaragua; DOB 05 Apr 1973; POB Nicaragua; nationality Nicaragua; Gender Male; Cedula No. 4410504730003N (Nicaragua) (individual) [NICARAGUA].

Designated pursuant to section 1(a)(iii) of E.O. 13851, as amended, for being an official of the Government of Nicaragua or having served as an official of the Government of Nicaragua at any time on or after January 10, 2007.

Dated: April 19, 2023.
Andrea M. Gacki,
Director, Office of Foreign Assets Control, U.S. Department of the Treasury.

[FR Doc. 2023-08783 Filed 4-25-23; 8:45 am]

BILLING CODE 4810-AL-P